NATIONAL SCIENCE FOUNDATION

Special Emphasis Panel in Astronomical Sciences: Notice of Meeting

In accordance with the Federal Advisory Committee Act (Pub. L. 92-463, as amended), the National Science Foundation announces the following:

Name: Special Emphasis Panel in Astronomical Sciences (1186).

Date/Time: May 10-11, 2000, 9 a.m.-5 p.m.

Place: National Science Foundation, 4201 Wilson Blvd., Room 130, Arlington, VA 22230.

Type of Meeting: Closed.

Contact Person: James Breckinridge, Program Director, Division of Astronomical Sciences, National Science Foundation, 4201 Wilson Blvd., Arlington, VA 22230. Telephone (703) 306-1820.

Purpose of Meeting: To provide advice and recommendations concerning proposals submitted to NSF for financial support.

Agenda: To review and evaluate proposals for facilities instrumentation submitted to the MRI Program within the Division of Astronomical Sciences.

Reason for Closing: The proposal being reviewed includes information of a proprietary or confidential nature, including technical information; financial data, such as salaries; and personal information concerning individuals associated with the proposals. These matters are exempt under 5 U.S.C. 552b(c), (4) and (6) of the Government in The Sunshine Act.

Dated: April 18, 2000.
Karen J. York,
Committee Management Officer.

[FR Doc. 00-10122 Filed 4-21-00; 8:45 am]

BILLING CODE 7555-01-M